DEPARTMENT OF COMMERCE

National Oceanic and Atmospheric Administration

[RTID 0648- XE823]

Marine Mammals; File No. 27539

AGENCY: National Marine Fisheries Service (NMFS), National Oceanic and Atmospheric Administration (NOAA), Commerce.

ACTION: Notice; issuance of permit.

SUMMARY: Notice is hereby given that an enhancement permit has been issued to Waikiki Aquarium, 2777 Kalakaua Avenue, Honolulu, HI 96815 (Responsible Party: Andrew Rossiter, Ph.D.) for captive Hawaiian monk seals (Neomonachus schauinslandi).

ADDRESSES: The permit and related documents are available for review upon written request via email to NMFS.Pr1Comments@noaa.gov.

FOR FURTHER INFORMATION CONTACT: Jennifer Skidmore or Courtney Smith, Ph.D., (301) 427-8401.

SUPPLEMENTARY INFORMATION: On December 19, 2024, notice was published in the Federal Register (89 FR 103786) that a request for an enhancement permit had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222 through 226).

The objectives of the enhancement is to support the recovery actions in accordance with The Hawaiian Monk Seal Recovery Plan (NMFS 2007) and the Species in the Spotlight Action Plan for Hawaiian monk seals (NMFS 2021) by providing long-term care of up to two Hawaiian monk seals at any given time taken from the wild for rehabilitation or enhancement purposes under separate permits or authorizations. Seals maintained under this permit would be removed from the wild as either: aggressive males that severely injure or kill conspecifics or beached/stranded seals taken for rehabilitation, but are deemed non-releasable due to medical issues or are considered nuisance animals. These animals will continue to be maintained under the authorities under which they were collected from the wild pursuant to MMPA Sections 104(c)(4) for aggressive males or 109(h)/112(c) for non-releasables, as well as ESA Section 10(a)(1)(A).

In compliance with the National Environmental Policy Act of 1969 (42 U.S.C. 4321 et seq.), a final determination has been made that the activity proposed is categorically excluded from the requirement to prepare an environmental assessment or environmental impact statement.

As required by the ESA, issuance of this permit was based on a finding that such permit: (1) was applied for in good faith; (2) will not operate to the disadvantage of such endangered species; and (3) is consistent with the purposes and policies set forth in section 2 of the ESA.

Dated: June 9, 2025.
Shannon Bettridge,
Chief, Marine Mammal and Sea Turtle Conservation Division, Office of Protected Resources, National Marine Fisheries Service.

[FR Doc. 2025-10696 Filed 6-11-25; 8:45 am]

BILLING CODE 3510-22-P